NUCLEAR REGULATORY COMMISSION

[NRC-2010-0319; Docket No. 50-400]

Carolina Power & Light Company; Notice of Withdrawal of Application for Amendment to Renewed Facility Operating License

The U.S. Nuclear Regulatory Commission (NRC, the Commission) has granted the request of the Carolina Power & Light Company (the licensee) to withdraw its application dated September 29, 2008, as supplemented by letters dated January 16, 2009, August 12, 2009, January 18, 2010, and August 16, 2010, for a proposed amendment to Renewed Facility Operating License No. NPF-63 for the Shearon Harris Nuclear Power Plant, Unit 1, located in Wake County, North Carolina.

The proposed amendment would have modified Technical Specification (TS) Sections 5.6.1.3.a and 5.6.1.3.b to incorporate the results of a new criticality analysis. Specifically the TSs would be revised to add new requirements for the Boiling-Water Reactor (BWR) spent fuel storage racks containing Boraflex in Spent Fuel Pools A and B. The requirements for the BWR spent fuel racks currently contained in TS 5.6.1.3 would be revised to specify applicability to the spent fuel storage racks containing Boral in Spent Fuel Pool B.

The Commission had previously issued a Notice of Consideration of Issuance of Amendment published in the Federal Register on February 24, 2009 (74 FR 8283). However, by letter dated September 28, 2010, the licensee withdrew the proposed change.

For further details with respect to this action, see the application for amendment dated September 29, 2008 (Agencywide Documents Access and Management System (ADAMS) Accession No. ML082800410), as supplemented by letters dated January 16, 2009, (ADAMS Accession No. ML090230373), August 12, 2009 (ADAMS Accession No. ML092310549), January 18, 2010 (ADAMS Accession No. ML100250850), and August 16, 2010 (ADAMS Accession No. ML102370768), and the licensee's letter dated September 28, 2010, which withdrew the application for license amendment.

Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 30th day of September 2010.
For the Nuclear Regulatory Commission.
Douglas A. Broaddus,
Chief, Plant Licensing Branch II-2, Division of Operating Reactor Licensing, Office of Nuclear Reactor Regulation.

[FR Doc. 2010-25281 Filed 10-6-10; 8:45 am]

BILLING CODE 7590-01-P